DEPARTMENT OF TRANSPORTATION

Federal Aviation Administration

Agency Information Collection Activities: Requests for Comments; Clearance of Renewed Approval of Information Collection: Certification: Mechanics, Repairman, Parachute Riggers

AGENCY: Federal Aviation Administration (FAA), DOT.

ACTION: Notice and request for comments.

SUMMARY: In accordance with the Paperwork Reduction Act of 1995, FAA invites public comments about our intention to request the Office of Management and Budget (OMB) approval to renew a previously approved information collection. FAR part 65 prescribes requirements for mechanics, repairmen, parachute riggers, and inspection authorizations. The information collected shows applicant eligibility for certification.

DATES: Written comments should be submitted by August 18, 2017.

ADDRESSES: Send comments to the FAA at the following address: Ronda Thompson, Federal Aviation Administration, ASP-110, 800 Independence Ave. SW., Washington, DC 20591.

PUBLIC COMMENTS INVITED: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson email at: Ronda.Thompson@faa.gov; phone: 202-267-1416.

SUPPLEMENTARY INFORMATION: OMB Control Number: 2120-0022.

Title: Certification: Mechanics, Repairman, Parachute Riggers.

Form Numbers: FAA Forms 8610-1, 8610-2.

Type of Review: Renewal of an information collection.

Background: FAR Part 65 prescribes, among other things, rules governing the issuance of certificates and associated rating for mechanic, repairman, parachute riggers, and issuance of inspection authorizations. The information collected on the forms submitted for renewal is used for evaluation by the FAA, which is necessary for issuing a certificate and/or rating. Certification is necessary to ensure qualifications of the applicant.

Respondents: An estimated 66,153 mechanics, repairmen, and parachute riggers.

Frequency: On occasion.

Estimated Average Burden per Response: 20 minutes.

Estimated Total Annual Burden: 44,841 hours.

Issued in Washington, DC, on June 5, 2017.
Ronda L. Thompson,
FAA Information Collection Clearance Officer, Performance, Policy, and Records Management Branch, ASP-110.

[FR Doc. 2017-12715 Filed 6-16-17; 8:45 am]

BILLING CODE 4910-13-P